DEPARTMENT OF ENERGY

Federal Energy Regulatory Commission

Combined Notice of Filings #1

Take notice that the Commission received the following electric corporate filings:

Docket Numbers: EC19-31-000.

Applicants: Sempra Energy, Oncor Electric Delivery Company LLC, Sharyland Utilities, L.P., Sharyland Distribution & Transmission Services, L.L.C.

Description: Joint Application for Authorization Under Section 203 of the Federal Power Act, et al. of Sempra Energy, et al.

Filed Date: 11/30/18.

Accession Number: 20181130-5318.

Comments Due: 5 p.m. ET 12/21/18.

Docket Numbers: EC19-32-000.

Applicants: Vermillion Power, L.L.C., FirstEnergy Generation, LLC.

Description: Application for Authorization Under Section 203 of the Federal Power Act, et al. of Vermillion Power, L.L.C., et al.

Filed Date: 11/30/18.

Accession Number: 20181130-5362.

Comments Due: 5 p.m. ET 12/21/18.

Take notice that the Commission received the following electric rate filings:

Docket Numbers: ER18-2342-002.

Applicants: GridLiance Heartland LLC.

Description: Tariff Amendment: GridLiance Heartland LLC—Deficiency Filing to be effective 11/30/2018.

Filed Date: 11/30/18.

Accession Number: 20181130-5289.

Comments Due: 5 p.m. ET 12/21/18.

Docket Numbers: ER19-91-001.

Applicants: GRP Franklin, LLC.

Description: Supplement to November 21, 2018 GRP Franklin, LLC tariff filing.

Filed Date: 11/30/18.

Accession Number: 20181130-5317.

Comments Due: 5 p.m. ET 12/21/18.

Docket Numbers: ER19-92-001.

Applicants: GRP Madison, LLC.

Description: Supplement to November 21, 2018 GRP Madison, LLC tariff filing.

Filed Date: 11/30/18.

Accession Number: 20181130-5358.

Comments Due: 5 p.m. ET 12/21/18.

Docket Numbers: ER19-289-001.

Applicants: Cleco Cajun LLC.

Description: Tariff Amendment: Amendment to 1 to be effective 12/31/9998.

Filed Date: 11/30/18.

Accession Number: 20181130-5310.

Comments Due: 5 p.m. ET 12/21/18.

Docket Numbers: ER19-454-000.

Applicants: FirstEnergy Solutions Corp.

Description: Compliance filing: MBR Compliance Filing [ER18-965; ER18-1591; ER18-1999] to be effective 6/1/2018.

Filed Date: 11/30/18.

Accession Number: 20181130-5283.

Comments Due: 5 p.m. ET 12/21/18.

Docket Numbers: ER19-455-000.

Applicants: Stoneray Power Partners, LLC.

Description: § 205(d) Rate Filing: Filing of Stoneray Rate Schedule FERC No. 1 re Reactive Power Compensation to be effective 1/30/2019.

Filed Date: 11/30/18.

Accession Number: 20181130-5285.

Comments Due: 5 p.m. ET 12/21/18.

Docket Numbers: ER19-456-000.

Applicants: Southwest Power Pool, Inc.

Description: § 205(d) Rate Filing: Mor-Gran-Sou Electric Cooperative Formula Rate to be effective 2/1/2019.

Filed Date: 11/30/18.

Accession Number: 20181130-5286.

Comments Due: 5 p.m. ET 12/21/18.

Docket Numbers: ER19-457-000.

Applicants: Southwest Power Pool, Inc.

Description: § 205(d) Rate Filing: Otter Tail Power Company Network Customer Transmission Credits to be effective 2/1/2019.

Filed Date: 11/30/18.

Accession Number: 20181130-5313.

Comments Due: 5 p.m. ET 12/21/18.

Docket Numbers: ER19-458-000.

Applicants: EDF Trading North America, LLC,AES Alamitos, LLC,AES Huntington Beach, LLC,AES Redondo Beach, LLC.

Description: Application to Recover Fuel Costs, et al. of EDF Trading North America, LLC, et al.

Filed Date: 11/30/18.

Accession Number: 20181130-5329.

Comments Due: 5 p.m. ET 12/21/18.

Docket Numbers: ER19-460-000.

Applicants: Southwest Power Pool, Inc.

Description: Compliance filing: Order No. 841 Compliance Filing to Incorporate Electric Storage Resources to be effective 12/1/2019.

Filed Date: 12/3/18.

Accession Number: 20181203-5199.

Comments Due: 5 p.m. ET 12/24/18.

Docket Numbers: ER19-461-000.

Applicants: Wheelabrator Concord Company, L.P.

Description: Baseline eTariff Filing: baseline new to be effective 4/18/2019.

Filed Date: 12/3/18.

Accession Number: 20181203-5204.

Comments Due: 5 p.m. ET 12/24/18.

Docket Numbers: ER19-462-000.

Applicants: PJM Interconnection, L.L.C.

Description: Compliance filing: Compliance Filing re Order No. 841 ESR Accounting Proposal to be effective 2/3/2019.

Filed Date: 12/3/18.

Accession Number: 20181203-5227.

Comments Due: 5 p.m. ET 12/24/18.

Docket Numbers: ER19-463-000.

Applicants: Duke Energy Progress, LLC, Duke Energy Carolinas, LLC.

Description: § 205(d) Rate Filing: DEC-DEP Revisions to OATT Formula Transmission Rates (State ADIT) to be effective 1/1/2019.

Filed Date: 12/3/18.

Accession Number: 20181203-5230.

Comments Due: 5 p.m. ET 12/24/18.

Docket Numbers: ER19-464-000.

Applicants: Vermillion Power, L.L.C.

Description: Baseline eTariff Filing: Market-based rate application to be effective 12/31/9998.

Filed Date: 12/3/18.

Accession Number: 20181203-5242.

Comments Due: 5 p.m. ET 12/24/18.

Docket Numbers: ER19-465-000.

Applicants: Midcontinent Independent System Operator, Inc.

Description: Compliance filing: 2018-12-03_Order 841 Electric Storage Resource Compliance Filing to be effective 12/31/9998.

Filed Date: 12/3/18.

Accession Number: 20181203-5244.

Comments Due: 5 p.m. ET 12/24/18.

Take notice that the Commission received the following electric securities filings:

Docket Numbers: ES19-1-000.

Applicants: Kansas City Power & Light Company, KCP&L Greater Missouri Operations Company, Kansas Gas and Electric Company, Westar Energy, Inc.

Description: Supplement to October 3, 2018 Joint Application for Authorization Under FPA Section 204 to Issue Short-Term Debt Securities of Kansas City Power & Light Company, et al.

Filed Date: 11/30/18.

Accession Number: 20181130-5142.

Comments Due: 5 p.m. ET 12/7/18.

Take notice that the Commission received the following electric reliability filings:

Docket Numbers: RR19-3-000.

Applicants: North American Electric Reliability Corporation.

Description: Petition for Approval of Amended Compliance and Certification Committee Charter of North American Electric Reliability Corporation.

Filed Date: 11/30/18.

Accession Number: 20181130-5363.

Comments Due: 5 p.m. ET 12/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2018.
Nathaniel J. Davis, Sr.,
Deputy Secretary.

[FR Doc. 2018-26641 Filed 12-7-18; 8:45 am]

BILLING CODE 6717-01-P